ENVIRONMENTAL PROTECTION AGENCY

[FRL-12033-01-OA]

Public Meetings of the Science Advisory Board Inorganic Arsenic Review Panel

AGENCY: Environmental Protection Agency (EPA).

ACTION: Notice.

SUMMARY: The Environmental Protection Agency (EPA) Science Advisory Board (SAB) Staff Office announces three public meetings of the Science Advisory Board Inorganic Arsenic Review Panel. The purpose of the meetings is to review and discuss the panel's draft report of the EPA's draft IRIS Toxicological Review of Inorganic Arsenic.

DATES: Public meetings: The Science Advisory Board Inorganic Arsenic Review Panel will meet on the following dates. All times listed are in eastern time.

July 8, 2024, from 1 p.m. to 5:30 p.m.

July 16, 2024, from 1 p.m. to 5 p.m.

July 22, 2024, from 1 p.m. to 5 p.m. (if needed)

Comments: See the section titled “Procedures for providing public input” under SUPPLEMENTARY INFORMATION for instructions and deadlines.

ADDRESSES: The meetings on July 8, 2024, July 16, 2024, and July 22, 2024 will be conducted virtually. Please refer to the SAB website at https://sab.epa.gov for information on how to attend the meetings.

FOR FURTHER INFORMATION CONTACT: Any member of the public who wants further information concerning this notice may contact Dr. Diana Wong, Designated Federal Officer (DFO), via telephone at (202) 564-2049, or email at wong.diana-m@epa.gov. General information about the SAB, as well as any updates concerning the meetings announced in this document, can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C. 10. The SAB will comply with the provisions of FACA and all appropriate SAB Staff Office procedural policies. Pursuant to FACA and EPA policy, notice is hereby given that the Science Advisory Board Inorganic Arsenic Review Panel will hold three public meetings to discuss the panel's draft report regarding the EPA's draft IRIS Toxicological Review of Inorganic Arsenic.

Availability of meeting materials: All meeting materials, including the agenda, will be available on the SAB web page at https://sab.epa.gov.

Procedures for providing public input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comments should follow the instruction below to submit comments.

Oral statements: In general, individuals or groups requesting an oral presentation at a meeting conducted virtually will be limited to three minutes. Each person making an oral statement should consider providing written comments as well as their oral statement so that the points presented orally can be expanded upon in writing. Persons interested in providing oral statements should contact the DFO, in writing (preferably via email) at the contact information noted under FOR FURTHER INFORMATION CONTACT, by July 1, 2024, to be placed on the list of registered speakers for the July 8, 2024 meeting.

Written statements: Written statements will be accepted throughout the advisory process; however, for timely consideration by SAB members, statements should be submitted to the DFO by July 1, 2024, for consideration at the July 8, 2024 meeting. Written statements should be supplied to the DFO at the contact information above via email. Submitters are requested to provide an unsigned version of each document because the SAB Staff Office does not publish documents with signatures on its websites. Members of the public should be aware that their personal contact information if included in any written comments, may be posted to the SAB website. Copyrighted material will not be posted without the explicit permission of the copyright holder.

Accessibility: For information on access or services for individuals with disabilities, please contact the DFO, at the contact information noted above, preferably at least ten days before the meetings, to give the EPA as much time as possible to process your request.

Meeting Cancellation: The July 22, 2024 meeting is tentative and may be canceled if the panel is able to complete its deliberations on July 16, 2024. If the July 22, 2024 meeting is canceled, notice will be posted on the SAB website.

V Khanna Johnston,
Deputy Director, Science Advisory Board Staff Office.

[FR Doc. 2024-13138 Filed 6-13-24; 8:45 am]

BILLING CODE 6560-50-P